DEPARTMENT OF AGRICULTURE

Animal and Plant Health Inspection Service

[Docket No. APHIS-2009-0021]

Pale Cyst Nematode; Update of Quarantined Areas

AGENCY: Animal and Plant Health Inspection Service, USDA.

ACTION: Notice of changes to quarantined area.

SUMMARY: We are advising the public that we have made changes to the area in the State of Idaho that is quarantined to prevent the spread of pale cyst nematode. The description of the quarantined area was updated on February 10, 2009, when approximately 2,721 acres were removed from the quarantined area and approximately 4,976 acres were added to the quarantined area.

FOR FURTHER INFORMATION CONTACT: Ms. Eileen Y. Smith, National Program Manager, Emergency and Domestic Programs, PPQ, APHIS, 4700 River Road, Unit 150, Riverdale, MD 20737-1236; (301) 734-5235.

SUPPLEMENTARY INFORMATION:

Background

The pale cyst nematode (PCN) (Globodera pallida) is a major pest of potato crops in cool-temperature areas. Other solanaceous hosts include tomatoes, eggplants, peppers, tomatillos, and some weeds. The PCN is thought to have originated in Peru and is now widely distributed in many potato-growing regions of the world. PCN infestations may be expressed as patches of poor growth. Affected potato plants may exhibit yellowing, wilting, or death of foliage. Even with only minor symptoms on the foliage, potato tuber size can be affected. Unmanaged infestations can cause potato yield loss ranging from 20 to 70 percent. The spread of this pest in the United States could result in a loss of domestic or foreign markets for U.S. potatoes and other commodities.

The PCN quarantine regulations (§§ 301.86 through 301.86-9, referred to below as the regulations) set out procedures for determining the areas quarantined for PCN and impose restrictions on the interstate movement of regulated articles from quarantined areas.

Section 301.86-3 of the regulations sets out the procedures for determining the areas quarantined for PCN. Paragraph (a) of § 301.86-3 states that, in accordance with the criteria listed in § 301.86-3(c), the Administrator will designate as a quarantined area each field that has been found to be infested with PCN, each field that has been found to be associated with an infested field, and any area that the Administrator considers necessary to quarantine because of its inseparability for quarantine enforcement purposes from infested or associated fields.

Paragraph (c) provides that the Administrator will designate a field as an infested field when PCN is found in the field. Paragraph (c) also provides that the Administrator will designate a field as an associated field when PCN host crops, as listed in § 301.86-2(b), have been grown in the field in the last 10 years and the field shares a border with an infested field; the field came into contact with a regulated article listed in § 301.86-2 from an infested field within the last 10 years; or, within the last 10 years, the field shared ownership, tenancy, seed, drainage or runoff, farm machinery, or other elements of shared cultural practices with an infested field that could allow spread of the PCN, as determined by the Administrator.

Paragraph (b) describes the conditions for the designation of an area less than an entire State as a quarantined area. Less than an entire State will be designated as a quarantined area only if the Administrator determines that:

1. The State has adopted and is enforcing restrictions on the intrastate movement of the regulated articles that are equivalent to those imposed by the regulations on the interstate movement of regulated articles; and

2. The designation of less than the entire State as a quarantined area will prevent the interstate spread of PCN.

We have determined that it is not necessary to designate the entire State of Idaho as a quarantined area. Idaho has adopted and is enforcing restrictions on the intrastate movement of regulated articles from that area that are equivalent to those we are imposing on the interstate movement of regulated articles.

Paragraph (d) provides for the removal of fields from quarantine. An infested field will be removed from quarantine when a 3-year biosurvey protocol approved by the Animal and Plant Health Inspection Service has been completed and the field has been found to be free of PCN. An associated field will be removed from quarantine when the field has been found to be free of PCN according to a survey protocol approved by the Administrator as sufficient to support removal from quarantine. Any area other than infested or associated fields which has been quarantined by the Administrator because of its inseparability for quarantine enforcement purposes from infested or associated fields will be removed from quarantine when the relevant infested or associated fields are removed from quarantine.

Paragraph (a) of § 301.86-3 further provides that the Administrator will publish the description of the quarantined area on the Plant Protection and Quarantine (PPQ) Web site, http://www.aphis.usda.gov/plant_health/plant_pest_info/potato/pcn.shtml. The description of the quarantined area will include the date the description was last updated and a description of the changes that have been made to the quarantined area. The description of the quarantined area may also be obtained by request from any local office of PPQ; local offices are listed in telephone directories. Finally, paragraph (a) establishes that, after a change is made to the quarantined area, we will publish a notice in the Federal Register informing the public that the change has occurred and describing the change to the quarantined area.

We are publishing this notice to inform the public of changes to the PCN quarantined area in accordance with § 301.86-3(a). On February 10, 2009, we updated the quarantined area to remove approximately 2,721 acres. This acreage was composed of associated fields that were found to be free of PCN according to a survey protocol approved by the Administrator, under § 301.86-3. The fields removed from quarantine were in Bingham, Bonneville, and Jefferson Counties.

We also added approximately 4,976 acres to the PCN quarantined area. This acreage was composed of fields that we determined to be associated with a field that was quarantined as an infested field on December 11, 2008. The fields added to the quarantined area were in Bingham and Bonneville Counties.

The current map of the quarantined area can be viewed on the PPQ Web site at http://www.aphis.usda.gov/plant_health/plant_pest_info/potato/pcn.shtml.

Authority: 7 U.S.C. 7701-7772 and 7781-7786; 7 CFR 2.22, 2.80, and 371.3.

Done in Washington, DC, this 1st day of May 2009.
Kevin Shea,
Acting Administrator, Animal and Plant Health Inspection Service.

[FR Doc. E9-10628 Filed 5-6-09; 8:45 am]

BILLING CODE 3410-34-P